DEPARTMENT OF DEFENSE

Department of the Navy

Extension of Public Comment Period for the Draft Environmental Impact Statement for Naval Air Station Key West Airfield Operations, Florida

AGENCY: Department of the Navy, DoD.

ACTION: Notice.

SUMMARY: A notice of availability was published in the Federal Register by the U.S. Environmental Protection Agency on June 29, 2012 (77 FR 126) for the Department of the Navy's (DoN) Draft Environmental Impact Statement (EIS) for Naval Air Station (NAS) Key West Airfield Operations, Florida. The public review period ends on August 13, 2012. This notice announces a 15-day extension of the public comment period until August 28, 2012.

FOR FURTHER INFORMATION CONTACT: Naval Facilities Engineering Command Southeast, NAS Key West Air Operations EIS Project Manager, P.O. Box 30, Building 903, NAS Jacksonville, FL 32212.

SUPPLEMENTARY INFORMATION: This notice announces a 15-day extension of the public comment period until August 28, 2012. Comments may be submitted in writing to Naval Facilities Engineering Command Southeast, NAS Key West Air Operations EIS Project Manager, P.O. Box 30, Building 903, NAS Jacksonville, FL 32212 or electronically via the project Web site (http://www.keywesteis.com). All written comments must be postmarked or received (online) by August 28, 2012, to ensure they become part of the official record. All comments will be addressed in the Final EIS.

Copies of the Draft EIS are available for public review at the following libraries:

1. Key West Public Library, 700 Fleming Street, Key West, Florida 33040.

2. Florida Keys Community College Library, 5901 College Road, Building A (2nd Floor), Key West, Florida 33040.

Copies of the Draft EIS are available for electronic viewing or download at http://www.keywesteis.com. A paper copy of the Executive Summary or a single compact disc of the Draft EIS will be made available upon written request.

J. M. Beal,
Lieutenant Commander, Office of the Judge Advocate General, U.S. Navy, Federal Register Liaison Officer.

[FR Doc. 2012-17983 Filed 7-23-12; 8:45 am]

BILLING CODE 3810-FF-P